DEPARTMENT OF AGRICULTURE

Animal and Plant Health Inspection Service

[Docket No. APHIS-2022-0043]

Notice of Request for Extension of Approval of an Information Collection; Approval of Laboratories To Conduct Official Testing

AGENCY: Animal and Plant Health Inspection Service, Agriculture (USDA).

ACTION: Extension of approval of an information collection; comment request.

SUMMARY: In accordance with the Paperwork Reduction Act of 1995, this notice announces the Animal and Plant Health Inspection Service's intention to request an extension of approval of an information collection associated with the regulations for the approval of laboratories to conduct official disease testing.

DATES: We will consider all comments that we receive on or before September 26, 2022.

ADDRESSES: You may submit comments by either of the following methods:

• Federal eRulemaking Portal: Go to www.regulations.gov. Enter APHIS-2022-0043 in the Search field. Select the Documents tab, then select the Comment button in the list of documents.

• Postal Mail/Commercial Delivery: Send your comment to Docket No. APHIS-2022-0043, Regulatory Analysis and Development, PPD, APHIS, Station 3A-03.8, 4700 River Road, Unit 118, Riverdale, MD 20737-1238.

Supporting documents and any comments we receive on this docket may be viewed at regulations.gov or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the regulations for the approval of laboratories to conduct official testing, contact Dr. Suelee Robbe-Austerman, Director, National Veterinary Services Laboratories, Diagnostics and Biologics, Veterinary Services, APHIS, 1920 Dayton Avenue, Ames, IA 50010; (515) 337-7301; Suelee.Robbe-Austerman@usda.gov. For information on the information collection reporting process, contact Mr. Joseph Moxey, APHIS' Paperwork Reduction Act Coordinator, at (301) 851-2483; joseph.moxey@usda.gov.

SUPPLEMENTARY INFORMATION:

Title: Approval of Laboratories to Conduct Official Testing.

OMB Control Number: 0579-0472.

Type of Request: Extension of approval of an information collection.

Abstract: Under the Animal Health Protection Act (the Act, 7 U.S.C. 8301 et seq.), the Animal and Plant Health Inspection Service (APHIS) of the U.S. Department of Agriculture (USDA) is authorized, among other things, to detect, control, or eradicate pests or diseases of livestock or poultry. To carry out this mission, APHIS regulates approval or certification for laboratories conducting tests for disease management as well as live animal interstate movement, import and export.

In the 9 CFR, § 71.22 provides the requirements for APHIS approval or certification of laboratories to conduct official testing for disease management as well as live animal interstate movement, import, and export. APHIS approval is required for State, university, and private laboratories conducting official testing for certain regulated diseases.

APHIS approval or certification requires various information collection activities. The regulations facilitate the approval of additional laboratories in emergency situations and serve to simplify regulatory oversight and compliance by providing defined application and inspection procedures using a checklist and approval agreement. The regulations also set requirements for testing procedures and methods, biosecurity measures, the use of quality systems and controls with documented guidelines and verification forms, details regarding training and reporting, recordkeeping, and program standards. In addition, laboratories must conduct testing using APHIS-approved assay methods and reporting, request test exemptions if the minimum number of tests are not performed during two consecutive reporting periods, and submit sample copies of diagnostic reports. The approved laboratories must maintain approval status and provide proof of accreditation status and set forth general terms for probation status, suspension or rescission of approval, and appeals. Laboratories may also request removal of their approved status.

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 7.1 hours per response.

Respondents: State animal health officials and laboratory directors.

Estimated annual number of respondents: 402.

Estimated annual number of responses per respondent: 13.

Estimated annual number of responses: 5,306.

Estimated total annual burden on respondents: 37,697 hours. (Due to averaging, the total annual burden hours may not equal the product of the annual number of responses multiplied by the reporting burden per response.)

All responses to this notice will be summarized and included in the request for OMB approval. All comments will also become a matter of public record.

Done in Washington, DC, this 21st day of July 2022.
Anthony Shea,
Administrator, Animal and Plant Health Inspection Service.

[FR Doc. 2022-16054 Filed 7-26-22; 8:45 am]

BILLING CODE 3410-34-P